CONGRESSIONAL BUDGET OFFICE

Notice of Transmittal of Sequestration Update Report for Fiscal Year 2003 to the Congress and the Office of Management and Budget

Pursuant to section 254(b) of the Balanced Budget and Emergency Deficit Control Act of 1985 (2 U.S.C. 904(b)), the Congressional Budget Office hereby reports that it has submitted its Sequestration Update Report for Fiscal Year 2003 to the House of Representatives, the Senate and the Office of Management and Budget.

William J. Gainer,
Associate Director, Management, Congressional Budget Office.

[FR Doc. 02-21282 Filed 8-20-02; 8:45 am]

BILLING CODE 0701-02-M